DEPARTMENT OF VETERANS AFFAIRS

Geriatrics and Gerontology Advisory Committee; Cancellation—Notice of Meeting

The Department of Veterans Affairs gives notice under Public Law 92-463 (Federal Advisory Committee Act) that the meeting of the Geriatrics and Gerontology Advisory Committee scheduled to be held at VA Central Office, 810 Vermont Avenue, NW., Washington, DC on September 19-20, 2006 has been cancelled.

For more information, please contact Mrs. Marcia Holt-Delaney, Program Analyst, Office of Geriatrics and Extended Care, at (202) 273-8540.

Dated: August 22, 2006.
By Direction of the Secretary.
E. Philip Riggin,
Committee Management Officer.

[FR Doc. 06-7199 Filed 8-25-06; 8:45 am]

BILLING CODE 8320-01-M